DEPARTMENT OF HEALTH AND HUMAN SERVICES

Centers for Disease Control and Prevention

Disease, Disability, and Injury Prevention and Control Special Emphasis Panel (SEP): Evaluation of New Technology To Improve Delivery of Immunizations, Funding Opportunity Announcement (FOA) IP09-005 Initial Review; Development, Implementation and Evaluation of Strategies To Increase Vaccination of Adolescents Affiliated With a Medical Home, FOA IP09-006 Initial Review; Determine the Impact of Strategies To Vaccinate All Children for Influenza in a Practice Setting, FOA IP09-007, Initial Review

In accordance with section 10(a)(2) of the Federal Advisory Committee Act (Pub. L. 92-463), the Centers for Disease Control and Prevention (CDC) announces the aforementioned meeting.

Time and Dates:

8 a.m.-5 p.m., May 21, 2009 (Closed).

8 a.m.-5 p.m., May 22, 2009 (Closed).

Place: Teleconference.

Status: The meeting will be closed to the public in accordance with provisions set forth in section 552b(c)(4) and (6), Title 5 U.S.C., and the Determination of the Director, Management Analysis and Services Office, CDC, pursuant to Public Law 92-463.

Matters To Be Discussed: The meeting will include the initial review, discussion, and evaluation of “Evaluation of New Technology to Improve Delivery of Immunizations, FOA IP09-005;” “Development, Implementation and Evaluation of Strategies to Increase Vaccination of Adolescents Affiliated with a Medical Home, FOA IP09-006;” “Determine the Impact of Strategies to Vaccinate all Children for Influenza in a Practice Setting, FOA IP09-007.”

Contact Person for More Information: Wendy Carr, PhD, CDC, 1600 Clifton Road, NE., Mailstop E60, Atlanta, GA 30333, Telephone: (404) 498-2276.

The Director, Management Analysis and Services Office, has been delegated the authority to sign Federal Register notices pertaining to announcements of meetings and other committee management activities, for both CDC and the Agency for Toxic Substances and Disease Registry.

Dated: April 24, 2009.
Elaine L. Baker,
Director, Management Analysis and Services Office, Centers for Disease Control and Prevention.

[FR Doc. E9-10190 Filed 5-1-09; 8:45 am]

BILLING CODE 4163-18-P